ENVIRONMENTAL PROTECTION AGENCY

[FRL-8524-1]

EPA Science Advisory Board; Notification of a Public Teleconference and Meeting of the Science Advisory Board Acrylamide Review Panel

AGENCY: Environmental Protection Agency.

ACTION: Notice.

SUMMARY: The Environmental Protection Agency (EPA) Science Advisory Board (SAB) Staff Office announces a public teleconference and meeting of the Acrylamide Review Panel (ARP) to review the Agency's draft assessment, “IRIS Toxicological Review of Acrylamide”.

DATES: The SAB will hold the public teleconference on February 20, 2008. The teleconference will be held from 1:30 p.m. to 3:30 p.m. (Eastern Time). A face-to-face meeting will be held on March 10, 2008 and March 11, 2008 from 9 a.m. to 5 p.m. (Eastern Time) and will continue on March 12, 2008 from 9 a.m. to 1 p.m. (Eastern Time).

Location: The February 20, 2008 telephone conference will be conducted by phone only. The March 10-12, 2008 face-to-face meeting will be held in the Washington DC metropolitan area. The actual venue will be announced on the SAB Web site at: http://www.epa.gov/sab.

FOR FURTHER INFORMATION CONTACT: Any member of the public wishing to obtain general information concerning this public teleconference or meeting should contact Dr. Sue Shallal, Designated Federal Officer (DFO), EPA Science Advisory Board (1400F), U.S. Environmental Protection Agency, 1200 Pennsylvania Avenue, NW, Washington, DC 20460; via telephone/voice mail: (202) 343-9977; fax: (202) 233-0643; or e-mail at: shallal.suhair@epa.gov . General information concerning the EPA Science Advisory Board can be found on the SAB Web site at: http://www.epa.gov./sab.

SUPPLEMENTARY INFORMATION: The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies. Pursuant to the Federal Advisory Committee Act, Public Law 92-463, notice is hereby given that the EPA SAB Acrylamide Review Panel will hold a public teleconference and face-to-face meeting to review EPA's draft IRIS assessment.

Background: EPA's Office of Research and Development (ORD) had requested that the SAB peer review the Agency's draft assessment, “Toxicological Review of Acrylamide.” Background on this SAB review and the process for formation of this review panel was provided in a Federal Register Notice published on March 29, 2007 (72 FR 60 14804-14805). The purpose of this upcoming teleconference is for the SAB Review Panel to discuss EPA's charge questions and plan for the face-to-face meeting. The Panel will then discuss and deliberate on the charge questions at the face-to-face meeting.

Availability of Materials: The draft agendas and other materials will be posted on the SAB Web site at: http://www.epa.gov/sab prior to each meeting. For questions and information concerning the Agency's draft assessment, (http://cfpub.epa.gov/ncea/cfm/recordisplay.cfm?deid=187729), please contact Dr. Rob Dewoskin, at (919) 541-1089, or dewoskin.rob@epa.gov.

Procedures for Providing Public Input: Interested members of the public may submit relevant written or oral information for the Acrylamide Review Panel to consider throughout the advisory process. Oral Statements: In general, individuals or groups requesting an oral presentation at a public SAB teleconference will be limited to three minutes per speaker, with no more than a total of one-half hour for all speakers. At the face-to-face meeting, presentations will be limited to five minutes, with no more than a total of one hour for all speakers. To be placed on the public speaker list, interested parties should contact Dr. Sue Shallal, DFO, in writing (preferably via e-mail), by February 13, 2008 for the teleconference and by March 3, 2008 for the face-to-face meeting, at the contact information noted above. Written Statements: Written statements should be received in the SAB Staff Office by February 13, 2008, so that the information may be made available to the SAB for their consideration prior to the teleconference or by March 3, 2008 for their consideration prior to the face-to-face meeting. Written statements should be supplied to the DFO via e-mail to shallal.suhair@epa.gov (acceptable file format: Adobe Acrobat PDF, WordPerfect, MS Word, MS PowerPoint, or Rich Text files in IBM-PC/Windows 98/2000/XP format).

Accessibility: For information on access or services for individuals with disabilities, please contact Dr. Sue Shallal at (202) 343-9977 or shallal.suhair@epa.gov. To request accommodation of a disability, please contact Dr. Shallal preferably at least ten days prior to the meeting, to give EPA as much time as possible to process your request.

Dated January 28, 2008.
Anthony F. Maciorowski,
Deputy Director, EPA Science Advisory Board Staff Office.

[FR Doc. E8-1869 Filed 1-31-08; 8:45 am]

BILLING CODE 6560-50-P